DEPARTMENT OF DEFENSE

Office of the Secretary

[Transmittal Nos. 14-32]

36(b)(1) Arms Sales Notification

AGENCY: Department of Defense, Defense Security Cooperation Agency.

ACTION: Notice.

SUMMARY: The Department of Defense is publishing the unclassified text of a section 36(b)(1) arms sales notification. This is published to fulfill the requirements of section 155 of Public Law 104-164 dated July 21, 1996.

FOR FURTHER INFORMATION CONTACT: Ms. B. English, DSCA/DBO/CFM, (703) 601-3740.

The following is a copy of a letter to the Speaker of the House of Representatives, Transmittal 14-32 with attached transmittal, policy justification, and sensitivity of technology.

Dated: September 24, 2014.
Aaron Siegel,
Alternate OSD Federal Register Liaison Officer, Department of Defense.

BILLING CODE 5001-06-P

BILLING CODE 5001-06-C

Transmittal No. 14-32

Notice of Proposed Issuance of Letter of Offer Pursuant to Section 36(b)(1) of the Arms Export Control Act, as amended

(i) Prospective Purchaser: Pakistan

(ii) Total Estimated Value:

Major Defense Equipment* | $ 0 million
Other | $198 million
TOTAL | $198 million

(iii) Description and Quantity or Quantities of Articles or Services under Consideration for Purchase: 160 Navistar Mine Resistant Ambush Protected (MRAP) vehicles to include (110 MaxxPro Dash DXM, 30 MaxxPro Base DXM, 10 MaxxPro Dash DXM Ambulances, and 10 MaxxPro Recovery Vehicles with protection kits), spare and repair parts, support and test equipment, publications and technical documentation, personnel training and equipment training, U.S. Government and contractor engineering, technical and logistics support services, and other related elements of logistical and program support.

(iv) Military Department: Army (WAW)

(v) Prior Related Cases, if any: None

(vi) Sales Commission, Fee, etc., Paid, Offered, or Agreed to be Paid: None

(vii) Sensitivity of Technology Contained in the Defense Article or Defense Services Proposed to be Sold: See Annex attached

(viii) Date Report Delivered to Congress: 19 Sep 14

* as defined in Section 47(6) of the Arms Export Control Act.

POLICY JUSTIFICATION

Pakistan—Mine Resistant Ambush Protected (MRAP) Vehicles

The Government of Pakistan has requested a possible sale of 160 Navistar Mine Resistant Ambush Protected (MRAP) vehicles to include (110 MaxxPro Dash DXM, 30 MaxxPro Base DXM, 10 MaxxPro Dash DXM Ambulances, and 10 MaxxPro Recovery Vehicles with protection kits), spare and repair parts, support and test equipment, publications and technical documentation, personnel training and equipment training, U.S. Government and contractor engineering, technical and logistics support services, and other related elements of logistical and program support. The estimated cost is $198 million.

The proposed sale will contribute to the foreign policy and national security of the United States by helping to improve the security of a country vital to U.S. foreign policy and national security goals in South Asia.

The proposed sale of MRAPs will ensure that Pakistan can effectively operate in hazardous areas in a safe, enhanced survivability vehicle, and improves Pakistan's interoperability with U.S. forces. By acquiring this capability, Pakistan will be able to provide the same level of protection for its own forces as the United States provides for its forces. Pakistan, which currently possesses MRAPS, has successfully demonstrated the ability to operate and maintain the vehicles in counterinsurgency and counterterrorism operations, and will have no difficulty absorbing these additional vehicles into its armed forces.

The proposed sale of this equipment and support will not affect the basic military balance in the region.

The principal contractor will be Navistar Defense Corporation in Madison Heights, Michigan. There are no known offset agreements proposed in connection with this potential sale.

Implementation of the proposed sale will require approximately two (2) U.S. Government and twenty-four (24) contractor representatives in Pakistan for a period of approximately 18 months to perform inspections and de-processing of vehicles upon delivery; provide assistance in installation of vehicle accessory kits; provide fault diagnosis and repairs; perform corrective maintenance, to include accident and battle damage assessment and repairs; conduct operator and maintainer training; and conduct inventories and maintain accountability of USG provided material.

There will be no adverse impact on U.S. defense readiness as a result of this proposed sale.

Transmittal No. 14-32

Notice of Proposed Issuance of Letter of Offer Pursuant to Section 36(b)(1) of the Arms Export Control Act

Annex

Item No. vii

(vii) Sensitivity of Technology:

1. The Mine Resistant Ambush Protected (MRAP) vehicle is an armored, multi-purpose combat vehicle designed to support mounted urban operations to include convoy security support and dismounted patrols. It is designed to increase crew survivability. The vehicle has a blast-resistant underbody designed to protect the crew from mine blasts, fragmentation, and direct fire weapons.

2. All MRAP vehicle information needed to operate, train, and maintain the vehicles is Unclassified; some design and test data, design performance parameters, armoring methodology, vulnerabilities, armor types and configuration data are classified up to Secret.

3. If a technologically advanced adversary were to obtain knowledge of the design performance and functional characteristics of specific hardware and software elements, the information could be used to develop countermeasures which might reduce the weapon system's effectiveness or be used in the development of a system with similar or advanced capabilities.

4. A determination has been made that the recipient country can provide the same degree of protection for the sensitive technology being released as the U.S. Government. This sale is necessary in furtherance of the U.S. foreign policy and national security objectives outlined in the Policy Justification.

5. All defense articles and services listed in this transmittal have been authorized for release and export to the Government of Pakistan.

[FR Doc. 2014-23075 Filed 9-26-14; 8:45 am]

BILLING CODE 5001-06-P